DEPARTMENT OF DEFENSE

Department of the Army

Publication of Changes to Freight Carrier Registration Program and the MTMC Freight Rules Publication 1C on Intransit Visibility of Motor Shipments Through Electronic Data Interchange

AGENCY: Department of the Army, DOD.

SUMMARY: Surface Deployment and Distribution Command (SDDC) will implement standard procurement requirement for domestic motor Transportation Service Providers (TSP) to provide Electronic Data Interchange (EDI) data feeds to track domestic shipments to improve ITV of all DOD shipments from origin to destination. SDDC intends to implement this requirement 90 (ninety) days from the date of the publication of this notice in the Federal Register. Requirements are: (1) All domestic motor TSP will electronically interface with DOD's Global Transportation Network (GTN) to provide ITV tracking and tracing information. (2) All domestic motor TSP will access the Freight Carrier Registration Program (FCRP) and identify within 90 days the ITV method it will use to feed tracking data to GTN (e.g. GFM ITV to GTN or by a service provider to GTN).

DATES: SDDC requires that the TSP determine the ITV method option it will use within 90 (ninety) days of this publication date.

ADDRESSES: Submit comments to Ms. Lu Ann Bernard, 661 Sheppard Place, ATTN: SDDC-OPM-CA, Fort Eustis, VA 23604-1644. Request for additional information may be sent by e-mail to bernard@sddc.army.mil.

FOR FURTHER INFORMATION CONTACT: Ms. Lu Ann Bernard, (757) 878-7481.

SUPPLEMENTARY INFORMATION:

Military Surface Deployment & Distribution Command (SDDC)

Reference: Defense Transportation Regulation (DTR) 4500.9-R, Part II, Chapter 201, paragraph M.2.a (Procurement), USTRANSCOM Instruction 20-2 Tactics, Techniques, and Procedures for In-Transit Visibility (ITV), paragraph 3.1.4.1 and MTMC Freight Traffic Rules Publication #1C, Item 1 Freight Carrier Registraion Program (FCRP).

Requirement: The United States Transportation Command (USTRANSCOM), on behalf of DOD, is responsible for collecting logistical data to support the in-transit visibility of all DOD shipments from origin to destination. This visibility is for peacetime, contingencies, and exercises, and includes tracking movements of freight. All domestic motor TSPs shall electronically interface with DOD's Global Transportation Network (GTN) to provide ITV tracking and tracing information. The TSP shall provide GTN with an electronic data transaction set meeting American National Standards Institute (ANSI) X.12 EDI standards. The TSP will provide an ANSI ASC X.12 transaction set (TS) 214, Motor Carrier shipment Status Message, version 4010 (using the COC Implementation Convention). The minimum data set (events) to be provided to GTN are:

1. TSP departed pick-up location with Shipment (Date and exact time)

2. Arrived at Terminal Location (if it happens).

3. Departed Terminal Location (if it happens).

4. En-route to Delivery Location (every 24 hours, send this status and the current location).

5. Completed Unloading at Delivery (Location Date and exact time).

Service Elements & Standard Events 1, 2, 3,and 5 status will be reported as follows:

—Expected Service status within 4 hours of the event occurring.

—Normal service within 12 hours of the event occurring.

Performance Standard: TSP compliance shall be measured based on the timeliness and accuracy of the information based on the time stamp of transmission of the informatiom and actual occurrence and date and event.

Failing to comply with this requirement may result in being deemed as non responsive, incapable of performing the requirement or a performance failure; thereby making a TSP subject to possible administrative actions to include disqualification or placement in nonuse status.

Exemptions:

—Shipments other than monitor.

—Shipments requiring satellite monitoring.

System

GFM to FTN or;

Carrier/Service Provider to GTN.

Miscellaneous

—Each TSP will be required to access the Freight Carrier Registration Program and identify within 90 days the ITV method they will use (e.g. GFM ITV to ITN or Carrier Service Provider to GTN).

—TSP electing the “Carrier/Service Provider to GTN” method must complete a trading partner agreement (TPA). The TPA information can be accessed via SDDC Web page at http:///www.sddc.army.mil/sddc/Content/Pub249/TP/pdf.

—Reporting shipment status through DTTS, meets the ITV requirement stated herein.

—ITV information for multiple truckload shipments documented on a single bill of lading shall be provided as follows; pick-up date equals the departure date of the first vehicle; delivery date equals the original date of the last vehicle. These procedures shall remain in effect until such time as DOD systems are capable of distinguishing individual truckload event status information.

—Implementation Phase: The TSP shall be compliant within 90 days of this notification.

Regulatory Flexibily Act

—This action is not considered rulemaking within the meaning of Regulatory Flexibility Act, 5 U.S.C. 601-612

Paperwork Reduction Act

The Paperwork Reduction Act, 44 U.S.C. 405 et seq., does not apply because no information collection or record keeping requirements are imposed on contractors, offerors or members of the public.

Brenda S. Bowen,
Army Federal Register Liaison Officer.

[FR Doc. 07-144 Filed 1-17-07; 8:45 am]

BILLING CODE 3710-08-M